DEPARTMENT OF COMMERCE

National Oceanic and Atmospheric Administration

[RTID 0648-XF138]

North Pacific Fishery Management Council; Public Meeting

AGENCY: National Marine Fisheries Service (NMFS), National Oceanic and Atmospheric Administration (NOAA), Commerce.

ACTION: Notice of web conference.

SUMMARY: The North Pacific Fishery Management Council (Council) Groundfish Plan Teams will meet September 16, 2025, through September 18, 2025.

DATES: The meetings will be held on Tuesday, September 16, 2025 through Thursday, September 18, 2025, from 9 a.m. to 4 p.m. Pacific Time, (8 a.m. to 3 p.m. Alaska Time).

ADDRESSES: The meeting will be a web conference. Join online through the link at https://meetings.npfmc.org/Meeting/Details/3099.

Council address: North Pacific Fishery Management Council, 1007 W 3rd Ave., Suite 400, Anchorage, AK 99501-2252; telephone: (907) 271-2809. Instructions for attending the meeting are given under SUPPLEMENTARY INFORMATION, below.

FOR FURTHER INFORMATION CONTACT: Sara Cleaver, Council staff; email: sara.cleaver@noaa.gov or Diana Stram, Council staff; email diana.stram@noaa.gov.

For technical support, please contact our administrative staff; email: npfmc.admin@noaa.gov, or telephone: (907) 271-2809.

SUPPLEMENTARY INFORMATION:

Agenda

Tuesday, September 16, 2025, Through Thursday, September 18, 2025

The Bering Sea and Aleutian Islands (BSAI) and Gulf of Alaska (GOA) Groundfish Plan Teams will meet to review and discuss issues of importance to both Plan Teams, including but not limited to: Economic and Socioeconomic Profile updates, Ecosystem Status Report climate updates, survey updates, reports on model progress for stock assessments to be presented in November, and proposed harvest specifications. The agenda is subject to change, and the latest version will be posted at https://meetings.npfmc.org/Meeting/Details/3099 prior to the meeting, along with meeting materials.

Connection Information

You can attend the meeting online using a computer, tablet, or smartphone; or by phone only. Connection information will be posted online at: https://meetings.npfmc.org/Meeting/Details/3099.

Public Comment

Public comment letters should be submitted electronically via the electronic agenda at https://meetings.npfmc.org/Meeting/Details/3099.

Authority: 16 U.S.C. 1801 et seq.

Dated: August 22, 2025.
Rey Israel Marquez,
Acting Deputy Director, Office of Sustainable Fisheries, National Marine Fisheries Service.

[FR Doc. 2025-16380 Filed 8-26-25; 8:45 am]

BILLING CODE 3510-22-P